Executive Order 14044 of September 13, 2021

Amending Executive Order 14007

By the authority vested in me as President by the Constitution and the laws of the United States of America, and in order to expand the President's Council of Advisors on Science and Technology, it is hereby ordered as follows:

Section 1. Amendment to Executive Order 14007. The first sentence of section 2(b) of Executive Order 14007 of January 27, 2021 (President's Council of Advisors on Science and Technology), is hereby amended to read as follows: “(b) The PCAST shall be composed of not more than 32 members.”.

Sec. 2. General Provisions. (a) Nothing in this order shall be construed to impair or otherwise affect:

(i) the authority granted by law to an executive department or agency, or the head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

THE WHITE HOUSE,

September 13, 2021.

[FR Doc. 2021-20164

Filed 9-15-21; 8:45 am]

Billing code 3295-F1-P